DEPARTMENT OF TRANSPORTATION

Federal Highway Administration

Notice of Final Federal Agency Actions on the Proposed I-395/Route 9 Transportation Study in Brewer, Holden, Eddington, and Clifton, Maine

AGENCY: Federal Highway Administration (FHWA), U.S. DOT.

ACTION: Notice of Limitation on Claims for Judicial Review of Actions by FHWA and Other Federal Agencies.

SUMMARY: This notice announces actions taken by FHWA and other Federal agencies that are final within the meaning of 23 U.S.C. 139(l)(1). The actions relate to the proposed I-395/Route 9 Transportation Study Final Environmental Impact Statement (FEIS), located in the City of Brewer, and Towns of Holden, Eddington, and Clifton, Penobscot County, Maine. Those actions grant approvals for the project.

DATES: By this notice, FHWA is advising the public of final agency actions subject to 23 U.S.C. 139(l)(1). A claim seeking judicial review of the Federal agency actions on the highway project will be barred unless the claim is filed on or before December 2, 2016. If the Federal law that authorizes judicial review of a claim provides a time period of less than 150 days for filing such claim, then that shorter time period still applies.

FOR FURTHER INFORMATION CONTACT: Todd D. Jorgensen, Division Administrator, Federal Highway Administration, Edmund S. Muskie Federal Building, 40 Western Avenue, Room 614, Augusta, ME 04330, Telephone (207) 512-4911; or Nathan Howard, Project Manager, Maine Department of Transportation, Child Street, 16 State House Station, Augusta, ME 04333-0016, Telephone (207) 624-3310.

SUPPLEMENTARY INFORMATION: Notice is hereby given that FHWA and other Federal agencies have taken final agency actions by issuing licenses, permits, and approvals for the following highway project in the State of Maine: I-395/Route 9 Transportation Study Final Environmental Impact Statement (FEIS), a proposed new controlled access highway extending northeast from the I-395 interchange with Route 1A in Brewer, roughly paralleling the Brewer/Holden town line, and connecting with Route 9 west of Chemo Pond Road in Eddington, Maine. The total length of the proposed I-395/Route 9 connector is approximately 6.1 miles of new construction roadway and also includes about 4.2 miles of existing Route 9. The actions by the Federal agencies, and the laws under which such actions were taken, are described in the FEIS for the project, approved on January 20, 2015, in the FHWA Record of Decision (ROD) issued on June 23, 2016, and in other documents in the FHWA administrative record. The FEIS, ROD, and other documents in the FHWA administrative record file are available by contacting FHWA or the Maine Department of Transportation at the addresses provided above. The FHWA FEIS and ROD can be viewed and downloaded from the project Web site at http://www.maine.gov/mdot or viewed at public libraries in the project area. This notice applies to all Federal agency decisions as of the issuance date of this notice and all laws under which such actions were taken, including but not limited to:

1. General: National Environmental Policy Act (NEPA) [42 U.S.C. 4321-4351]; Federal-Aid Highway Act [23 U.S.C. 109].

2. Air: Clean Air Act, [42 U.S.C. 7401-7671(q)].

3. Land: Section 4(f) of the Department of Transportation Act of 1966 [49 U.S.C. 303]; Section 6(f) of the Land and Water Conservation Fund Act of 1965 [16 U.S.C. 460]; Farmland Protection Policy Act [7 U.S.C. 4201-4209].

4. Wildlife: Endangered Species Act [16 U.S.C. 1531-1544 and Section 1536]; Magnuson-Stevens Fishery Conservation and Management Act of 1976, as amended [16 U.S.C. 1801 et seq.]; Bald and Golden Eagle Protection Act of 1940 [16 U.S.C. 668-668c].

5. Historic and Cultural Resources: Section 106 of the National Historic Preservation Act of 1966, as amended [16 U.S.C. 470(f) et seq.].

6. Social and Economic: Civil Rights Act of 1964 [42 U.S.C. 2000(d)-2000(d)(1)].

7. Executive Orders; E.O. 11990 Protection of Wetlands; E.O. 11988 Protection of Floodplains; E.O. 12898 Federal Actions to Address Environmental Justice in Minority and Low Income Populations; E.O. 13175 Consultation and Coordination with Indian Tribal Governments.

(Catalog of Federal Domestic Assistance Program Number 20.205, Highway Planning and Construction. The regulations implementing Executive Order 12372 regarding intergovernmental consultation on Federal programs and activities apply to this program.)

Authority: 23 U.S.C. 139(l)(1), as amended by Moving Ahead for Progress in the 21st Century Act (MAP-21), Pub. L. 112-141, sec. 1308, 126 Stat. 405 (2012).

Issued on: June 23, 2016.
Todd D. Jorgensen,
Division Administrator.

[FR Doc. 2016-15685 Filed 7-1-16; 8:45 am]

BILLING CODE 4910-RY-P